DEPARTMENT OF THE INTERIOR

Bureau of Reclamation

[RR02030000, 17XR0687NA, RX185279056002000]

Draft Supplement to the Final Environmental Impact Statement/Environmental Impact Report for Los Vaqueros Reservoir Expansion, Contra Costa County, California

AGENCY: Bureau of Reclamation, Interior.

ACTION: Notice of availability and notice of public hearings.

SUMMARY: The Bureau of Reclamation, as the National Environmental Policy Act Federal lead agency, and the Contra Costa Water District, as the California Environmental Quality Act State lead agency, have made available for public review and comment the Los Vaqueros Reservoir Expansion Project Draft Supplement to the Final Environmental Impact Statement/Environmental Impact Report (Draft SEIS/EIR). The Draft SEIS/EIR describes and presents the environmental effects of the No-Action Alternative and four action alternatives. Six public hearings will be held to receive comments from individuals and organizations on the Draft SEIS/EIR.

DATES: Submit written comments on the Draft SEIS/EIR on or before September 1, 2017.

Six public hearings have been scheduled to receive oral or written comments regarding environmental effects:

• Tuesday, July 11, 2017, 1:30 p.m.-3:30 p.m., Sacramento, CA

• Wednesday, July 12, 2017, 6:30 p.m.-8:30 p.m., Santa Clara, CA

• Tuesday, July 18, 2017, 6:30 p.m.-8:30 p.m., Concord, CA

• Thursday, July 20, 2017, 6:30 p.m.-8:30 p.m., Oakland, CA

• Tuesday, July 25, 2017, 6:30 p.m.-8:30 p.m., Brentwood, CA

• Thursday, July 27, 2017, 1:30 p.m.-3:30 p.m., Los Banos, CA

A 1-hour open house to view project information and interact with the project team will precede each public hearing.

ADDRESSES: Send written comments on the Draft SEIS/EIR to Ms. Lisa Rainger, Bureau of Reclamation, 2800 Cottage Way, Sacramento, CA 95825, or lrainger@usbr.gov.

Electronic CD copies of the Draft SEIS/EIR may be requested from Ms. Marguerite Patil, Contra Costa Water District, at 925-688-8018, or LVE@ccwater.com. The Draft SEIS/EIR is also accessible from the following Web site: http://www.usbr.gov/mp/nepa/nepa_projdetails.cfm?Project_ID=903.

The public hearings will be held at the following locations:

• Sacramento—Tsakopoulos Library Galleria, 828 I Street, Sacramento, CA 95814

• Santa Clara—Santa Clara Valley Water District, 5750 Almaden Expressway, Santa Clara, CA 95118

• Concord—Contra Costa Water District, 1331 Concord Avenue, Concord, CA 94520

• Oakland—East Bay Municipal Utility District, 375 11th Street, Oakland, CA 94607

• Brentwood—Brentwood Community Center, 35 Oak Street, Brentwood, CA 94513

• Los Banos—San Luis National Wildlife Refuge Complex Headquarters and Visitors Center, 7376 S. Wolfsen Road, Los Banos, CA 93635

FOR FURTHER INFORMATION CONTACT: Ms. Lisa Rainger, Bureau of Reclamation, at 916-978-5090 (TDD 916-978-5608), or lrainger@usbr.gov.

SUPPLEMENTARY INFORMATION: The Draft SEIS/EIR documents the direct, indirect, and cumulative effects to the physical, biological, and socioeconomic environment that may result from the expansion of Los Vaqueros Reservoir.

The Los Vaqueros Reservoir Expansion Project Draft SEIS/EIR evaluates expanding the existing Los Vaqueros Reservoir and conveyance facilities. Los Vaqueros Reservoir was previously expanded to 160 thousand acre-feet (TAF), and the Bureau of Reclamation (Reclamation) and Contra Costa Water District (CCWD) are currently evaluating the second phase of expansion up to the 275 TAF capacity. The project objectives consist of: (1) Developing water supplies for environmental water management that supports fish protection, habitat management, and other environmental water needs; (2) increasing water supply reliability for water providers within the San Francisco Bay Area, to help meet municipal and industrial water demands during drought periods and emergencies or to address shortages due to regulatory and environmental restrictions; and (3) improving the quality of water deliveries to municipal and industrial customers in the San Francisco Bay Area, without impairing the project's ability to meet the environmental and water supply reliability objectives stated above.

One of the five potential surface storage projects described in the CALFED Bay-Delta Program's long-term plan is the expansion of the existing Los Vaqueros Reservoir, an existing 160,000 acre-foot off-stream surface storage facility, located in Contra Costa County, California. The existing facility is owned and operated by CCWD.

The primary study area includes the Los Vaqueros Reservoir watershed and associated dam and reservoir facilities, which are situated in the coastal foothills west of the Delta and east of the Bay Area, the central and south Delta, and service areas of Bay Area water agencies. The Bay Area water agencies and additional water agencies served by the Central Valley Project potentially affected include CCWD, Alameda County Flood Control and Water Conservation District, Zone 7, Alameda County Water District, Bay Area Water Supply and Conservation Agency, Byron-Bethany Irrigation District, City of Brentwood, East Bay Municipal Utility District, East Contra Costa Irrigation District, San Francisco Public Utilities Commission, San Luis & Delta-Mendota Water Authority, and Santa Clara Valley Water District. Due to the project influence on other programs and projects, an extended study area is defined to include the service areas of the Central Valley of California and south-of-Delta wildlife refuges.

Reclamation was authorized in Public Law 108-7 (Omnibus Appropriations Act of 2003) and re-affirmed in Public Law 108-361 (2004) to conduct a feasibility-level investigation of the potential expansion of Los Vaqueros Reservoir. Planning studies have focused on identifying water resources problems, needs, and opportunities in the primary study area; developing a set of planning objectives; and formulating alternatives.

If special assistance is required at the public hearings, please contact Ms. Lisa Rainger at 916-978-5090, or via email at lrainger@usbr.gov. Please notify Ms. Rainger as far in advance as possible to enable Reclamation to secure the needed services. If a request cannot be honored, the requestor will be notified. A telephone device for the hearing impaired (TTY) is available at 800-877-8339.

Before including your address, phone number, email address, or other personal identifying information in your comment, you should be aware that your entire comment—including your personal identifying information—may be made publicly available at any time. While you can ask us in your comment to withhold your personal identifying information from public review, we cannot guarantee that we will be able to do so.

Dated: May 17, 2017.
Pablo R. Arroyave,
Acting Regional Director, Mid-Pacific Region.

[FR Doc. 2017-13926 Filed 6-30-17; 8:45 am]

BILLING CODE 4332-90-P